DEPARTMENT OF LABOR

Employment and Training Administration

[TA-W-65,658]

Semitool Southwest Regional Office, Phoenix, AZ; Notice of Termination of Investigation

Pursuant to Section 221 of the Trade Act of 1974, as amended, an investigation was initiated on March 23, 2009 in response to a petition filed on behalf of workers of Semitool Southwest Regional Office, Phoenix, Arizona.

The petitioning group of workers is covered by an active certification (TA-W-61,554C) which expires on July 16, 2009. Consequently, further investigation in this case would serve no purpose, and the investigation has been terminated.

Signed at Washington, DC, this 15th day of May 2009.
Richard Church,
Certifying Officer, Division of Trade Adjustment Assistance.

[FR Doc. E9-13895 Filed 6-12-09; 8:45 am]

BILLING CODE 4510-FN-P